DEPARTMENT OF HOMELAND SECURITY

Bureau of Customs and Border Protection

Notice of Cancellation of Customs Broker License

AGENCY: Bureau of Customs and Border Protection, U.S. Department of Homeland Security.

ACTION: Customs broker license revocations for the failure to file the triennial status report and applicable fee.

SUMMARY: Pursuant to section 641 of the Tariff Act of 1930, as amended, (19 U.S.C. 1641) and Title 19 of the Code of Federal Regulations at section 111.30(d), the following Customs broker licenses are canceled without prejudice.

License port | Licensee name | License No.
Anchorage | Margaret Green | 09804
Atlanta | Jennifer Cheatham Kelly | 13902
Atlanta | Edward R. Stephens | 12675
Atlanta | Alice Larona White | 16880
Atlanta | Sherry Elaine Simpson | 13412
Atlanta | Timothy R. Harmon | 15070
Atlanta | Marsha D. Thomas | 15561
Atlanta | William R. Druce | 15555
Atlanta | Brenda K. Peek | 13392
Atlanta | Joyce Logan Welch | 11048
Atlanta | Laurel S. Stephens | 09290
Atlanta | Jonathan D. Nordhausen | 13377
Atlanta | Beverly J. Sheffield | 16856
Atlanta | Nancy A. Beech | 12046
Boston | Paul J. Callery | 07515
Boston | AIS International, Inc | 13622
Boston | Xiao-Xia Erica Zhen | 17502
Boston | Rebecca M. Stracuzzi | 15692
Boston | Shayona CB Group, Inc | 17350
Boston | Sean Delaney | 20002
Boston | Dana R. Falzarano | 15383
Boston | Christopher R. Martin | 15226
Boston | John M. Borgia | 12651
Boston | Patrick M. Butler | 11547
Boston | Mark Alan Mullen | 10759
Boston | Lorne Jones | 10512
Boston | Dian Christine Pedersen | 09975
Boston | David John Cawley | 03835
Boston | Donna Lee McCarthy | 09976
Buffalo | Gordon L. MacMartin | 12408
Buffalo | Patricia M. Carberry | 20916
Buffalo | Andrew W. Smith | 15583
Buffalo | Michael J. Cherenzia | 13925
Buffalo | David A. Fubelli | 14233
Buffalo | Burtram W. Anderson | 04590
Buffalo | Daniel C. Muscato | 10882
Buffalo | Edith M. Sanfilippo | 10881
Buffalo | Steve A. Forey | 09323
Buffalo | Robert E. Hadden | 16033
Buffalo | Laura Jap Harper | 09040
Buffalo | Matthew P. Byrnes | 21262
Buffalo | Spencer Stewart | 20212
Champlain | Robert L. Bronson | 04600
Champlain | Michael S. Burwell | 10906
Champlain | Rene A. Barriere | 10905
Charleston | Sue S. Shipman | 16265
Charleston | Pamela Mason Lane | 10245
Charleston | Dora Lee Boyles | 05868
Charleston | McFarland Heard Mikell, Jr | 03625
Charlotte | Valerie Jean McGuire | 13440
Charlotte | Debra Clark Hall | 15498
Charlotte | Danielle Renee Muller | 20846
Charlotte | John Robert Davis | 20445
Charlotte | Elna L. Howard | 15985
Chicago | Steven J. Van Rees | 14573
Chicago | Tracy M. Vroman | 15320
Chicago | Margaret L. Benning | 15488
Chicago | Alfred W Abbonato | 14911
Chicago | Brian James Poshard | 07626
Chicago | Lisa A. Campobasso | 13532
Chicago | Richard R. Weeks | 12417
Chicago | Lynn W. Redenbaugh | 16430
Chicago | Robert A. Taussig | 20823
Chicago | Jean Adele Reid | 12216
Chicago | Vern J. Weberski | 05823
Chicago | Patrick Rene Jean | 12177
Chicago | Jemima Sager-Gillen | 20221
Chicago | Eugene Besler | 03083
Cleveland | Michael McCord | 17108
Cleveland | Kathleen Gallardo-Shrank | 11506
Cleveland | Lois J. Hull | 09340
Cleveland | Kathleen Blaser | 11539
Cleveland | Kandel Coolman Baxter | 21023
Cleveland | Seid-Reza Teimouri | 04643
Cleveland | Julie L. Holycross | 20493
Cleveland | James B. Wiser | 09368
Cleveland | Sandra Walker | 14490
Cleveland | Kristine M. Roth | 16451
Cleveland | William W. Shea | 11616
Cleveland | John C. Blaser | 11651
Cleveland | Alfred E. Andrews, Jr | 14419
Denver | Douglas H. Oliver | 22231
Denver | Amy D. Fisher | 17318
Detroit | Jesse Murray | 22217
Detroit | Fern Yvette Watkins | 15834
Detroit | Gerald Anthony Mastaw | 04127
Detroit | Louise Busch | 04092
Detroit | Robert James Semany | 03995
Detroit | Joanne B. Markstrom | 07254
Detroit | Richard Paul Juneau | 03764
Detroit | Lynne A. Palmitier | 13772
Detroit | Robert V. Schikora | 22531
El Paso | Bruce Wendell Brown | 02807
El Paso | Gerald Lewis Gumbert | 04699
El Paso | Rodolfo Ayon | 17008
El Paso | Alfredo Munoz Candelaria | 16099
El Paso | Bertha G Rizzuti | 15087
El Paso | Elaine M. Little-Esqueda | 15816
El Paso | Bruce Patrick McIntosh | 12229
El Paso | Beatrice Kay Gumbert | 05924
El Paso | Sam Esqueda | 15574
El Paso | Ronald Vertrees | 06989
El Paso | Manuel Romero, Jr | 17112
El Paso | Robert R. Martinez | 14797
Great Falls | Robert Dean Rogers | 11558
Great Falls | Debra International CHB, Inc | 21839
Great Falls | Debra K. Wanner | 12584
Great Falls | Shane Courtney | 21556
Honolulu | S DeFreest & Company, Inc | 07924
Honolulu | Bruce M. Mitchell | 07478
Houston | Michael Earl Wilson | 08065
Houston | Wendy S. Cleveland | 16867
Houston | Robert A. Spain, III | 15354
Houston | Karen Sims | 10971
Houston | Wanda M. Jeffcoat | 10307
Houston | Edward L. Bartimmo | 16241
Houston | Billy R. Potts | 03993
Houston | Michael W. Bruzga | 06942
Houston | Galen Sell | 05704
Laredo | Mario Negrete Rangel | 05703
Los Angeles | Richard Lee Wilroy | 07534
Los Angeles | Thomas Leroy Haugen | 16424
Los Angeles | OCS Customs Brokerage, Inc | 16642
Los Angeles | Elizabeth Diane Llata-Brecht | 16776
Los Angeles | Donna-Lee Vickie Burke | 11263
Los Angeles | Teresa Wolven | 11173
Los Angeles | John Constant Menudier | 10054
Los Angeles | WC Keating, Inc | 14371
Los Angeles | Josef Schmid | 06672
Los Angeles | Harold Robert Pintar | 10010
Los Angeles | Leslie P. Skelton | 07379
Los Angeles | Steven L. Burdolf | 07546
Los Angeles | Cynthia Marie Appel | 10658
Los Angeles | James E. Powell | 10471
Los Angeles | Joshua Eckhaus | 10699
Los Angeles | Lynn Marie Bagley | 13546
Los Angeles | Matthew Lawrence Parks | 13427
Los Angeles | Zil Brill | 07157
Los Angeles | Yen Tan Pham | 14290
Los Angeles | Arthur C. Schick, III | 09498
Los Angeles | Dan W. White | 04267
Los Angeles | Ramon J. Pacheco | 04231
Los Angeles | Stephen J. Schneider | 05992
Los Angeles | Sharon Czull Johnson | 04529
Los Angeles | Janet Louise Elliot | 06322
Los Angeles | S Johnson & Associates, Inc | 05437
Los Angeles | Jeffrey P. Schramer | 14964
Los Angeles | Robert Allen McLaughlin | 16986
Los Angeles | Ralph Weymouth Parkhurst, III | 16025
Los Angeles | Perry Lind McCoy, Jr | 17181
Los Angeles | Gary Akito Mizumoto | 10487
Los Angeles | Jeff M. Nelson | 09137
Los Angeles | Robert David Bloom | 13688
Los Angeles | Theodore A. O'Donnell | 14651
Los Angeles | Abiodun Omolara Okunubi | 17144
Los Angeles | Philip George Provenzale | 09334
Los Angeles | Alonzo James Arcos | 09857
Los Angeles | Pacheco International Corporation | 04330
Los Angeles | Melissa L. Van Corbach | 15137
Los Angeles | Angelo Pomyong Cho | 21801
Los Angeles | US Express CHB, Inc | 09134
Los Angeles | Ronald F. McDonald | 06645
Los Angeles | Christine Wang | 12708
Los Angeles | Jeffrey Kent Elledge | 20854
Los Angeles | Margaret Edsall Huson | 20546
Los Angeles | Stefanie Salazar | 21084
Los Angeles | Sylvia Joan Pearson | 10602
Los Angeles | Elayne C. Brenner Haddad | 11744
Los Angeles | Jinny Jung | 13185
Los Angeles | Judy Carey Cozad | 12721
Los Angeles | Tory Stanford Erickson | 12605
Los Angeles | Deborah Russell | 13197
Los Angeles | Rebecca Bernard | 13189
Los Angeles | Julio A. Hinojosa | 15501
Miami | Robert M. Kossick, Jr | 20308
Miami | Global Freight Services, Inc | 12401
Miami | Customs Services International, Inc | 13029
Miami | Ramon E. Perez | 22785
Miami | Pedro Tronge | 16002
Miami | Dulce M. Gomez | 14957
Miami | James Creighton | 06638
Miami | Mauree T. Talman | 15522
Miami | Alan Albelo | 13801
Miami | Troy D. Crago | 20177
Miami | Raul Lahera | 10344
Miami | Joyce C. Rodriguez | 21130
Miami | Ricardo E. Rubio | 06397
Miami | Thomas Kruszewski | 21534
Miami | Gilbert A. Espinet | 16810
Miami | Pascale Martelly | 21393
Miami | Elia R. (Rodriquez) Cabrera | 14302
Miami | Washington World Trading Corporation | 17006
Miami | Carlos E. Serrano | 21584
Miami | Grace Ann Martin | 14286
Miami | RP Broker, Inc | 09603
Miami | Lucia Novoa | 16091
Miami | Arturo Marrero | 13619
Miami | Jeffrey D. Bleyer | 15806
Miami | Herbert Patterer | 21079
Miami | Russell C. Vick, Jr | 20382
Milwaukee | Eugene E. Van Garsse | 04690
Milwaukee | Advantage Customs Brokers, LLC | 20067
Milwaukee | Global Logistics Services, Inc | 17029
Milwaukee | Robert P. Voisin | 17566
Milwaukee | Richard W. Gardenier | 02995
Milwaukee | Allen G. Lemke | 04615
Milwaukee | Jeffrey L. Keim | 13696
Minneapolis | Amy M. Storms | 17489
Minneapolis | Kirsten H. Dicks | 21606
Minneapolis | Jacqueline J. Otto | 14521
Minneapolis | Charlene K. Leach | 16876
Minneapolis | Dayton D. Gilbert | 17523
Minneapolis | John Michael Gleason | 03867
Mobile | Raymond B. Green, Jr | 10837
New Orleans | Nathan W. Rye | 17305
New Orleans | Robert Gowan | 16545
New Orleans | Rosa D. Simoneaux | 05030
New Orleans | Janice J. Gilbert | 17434
New Orleans | George Villanueva | 05261
New Orleans | Alfred P. Mangan | 05397
New Orleans | Jean W. Phebus | 20028
New Orleans | Garrett Meynard | 15662
New Orleans | Forward Air, Inc | 20204
New Orleans | American Logistics International, Inc | 16539
New Orleans | Jack E. Smith | 12232
New Orleans | Martin M. Whitfield | 10154
New York | A Burghart Shipping Company, Inc | 05222
New York | Cargo Network International, Inc | 15404
New York | Cynthia Lee Gilbert | 10273
New York | Gerard William Harder | 02996
New York | Sol Schoenberg | 03585
New York | Vincent P. Ventura, Jr | 14807
New York | Altair Freighting International, Inc | 14663
New York | Douglas Paik | 20083
New York | Guido Derlly | 17562
New York | Robert P. Weinrib | 06455
New York | Joseph N. Santarelli | 06021
New York | Ernesto B. Pullenza | 06398
New York | Robert J. Gannon | 06179
New York | Robert E. Lee | 12032
New York | Fischer-McCloskey, Inc | 04608
New York | Marcelo Klapp | 10177
New York | Andrea Clair Brooks | 13258
New York | Christopher J. Dickerson | 17225
New York | John J. Carr | 20482
New York | Edward F. Woehr | 18020
New York | Laina Jones | 21156
New York | Eugene Song | 21230
New York | Daniel Dong | 21761
New York | Leo Liang Li | 21763
New York | Richard Schweitzer | 06196
New York | Joseph Mauri | 02737
New York | Richard Lawson | 12823
New York | Arthur S. Spiegel | 04762
New York | Arthur F. Kingren | 10703
New York | Complete Customs Clearance, Inc | 10065
New York | Irwin Carmel | 03838
New York | Seymour Haber | 03841
New York | Carmine Dominick Tolli | 03542
New York | Stephen J. Rozsas | 04906
New York | John F. Wedded | 05103
New York | James A. Hoban | 05739
New York | Charles D. Johnson | 05953
New York | J.J. Rousseau | 06816
New York | Kim D. Bateman | 07221
New York | Charles A. McCloskey | 04106
New York | Nicholas J. DeFonte | 03245
New York | Richard DeFuccio | 03615
New York | KDB International Ltd | 09179
New York | Keith Campbell | 11489
New York | Ellen Michel | 16308
New York | Debra Jean Levine | 12667
New York | Steven Poulin | 22381
New York | A & J Import Export Services, Inc | 14662
New York | Delphine R. Mui | 17207
New York | Bernard Louis Epstein | 01870
New York | Nicholas DePasquale | 02394
New York | Elza Mitelman | 17241
New York | Capital Customs Brokers, Inc | 11526
New York | Peter R. Kurth | 02859
New York | Irma Ruiz | 16461
New York | Patrick Lam | 16106
New York | Daniel Zupko | 16285
Nogales | Edward Mario Bayze | 12078
Nogales | Sandra Chambers Losskarn | 12684
Nogales | Barry L. Lay, Jr | 17196
Nogales | CB Lay Customs Brokers, Inc | 11337
Nogales | Jose G. Varela | 15617
Otay Mesa | Mary Beth Viruete | 13576
Otay Mesa | Suzanne Rios | 22859
Otay Mesa | Evan W. Bladh | 12839
Otay Mesa | Frank R. Britton | 02870
Otay Mesa | Elaine Dolores Morton | 13280
Otay Mesa | Marrianne Handrus Kaarsberg | 04619
Otay Mesa | Bennie H. Ketchum | 04125
Philadelphia | Brian C. Johnson | 21929
Philadelphia | Lynn M. Jones | 21385
Philadelphia | Charles William Person | 04156
Philadelphia | Richard C. Powley | 11761
Philadelphia | Hanifa Shabazz | 07676
Philadelphia | Maryanne Sweeney | 16445
Philadelphia | Jeannie McClaning | 17574
Philadelphia | Paul L. Greenlee | 09903
Philadelphia | Dennis Rowles | 07051
Philadelphia | Volker Simon | 05123
Philadelphia | Vincent McHale | 12880
Port Arthur | Gerard Arthur Becnel | 03858
Portland, ME | Stewart J. Harmon | 15242
Portland, OR | William J. Boyd | 16900
Portland, OR | Edward M. Jones & Company | 11882
Portland, OR | Peter Ryan Klason | 14112
Portland, OR | Sarah Clarke Gibson | 15252
Portland, OR | Jodi Watson | 16100
Providence | Lisa Ann Fitch | 12488
Providence | Cheryl A. Simino-Dewolf | 14545
San Diego | David Wells | 16253
San Diego | Taeheum Yun | 14985
San Diego | Susan Wittering | 14311
San Diego | Leia Darett | 17584
San Diego | Patti Hodson | 15017
San Diego | Esteban Zavala | 20439
San Diego | George LeBaron, III | 20913
San Diego | Dinorah Plascencia | 20882
San Francisco | James Carl Sanetra | 15852
San Francisco | Gwendolyn Hasse | 15843
San Francisco | E.R. Gallagher | 07022
San Francisco | Miguel Roman Padilla | 06496
San Francisco | James I. McLeaish | 12080
San Francisco | Carole Wilkinson | 07635
San Francisco | James A. Moore | 22675
San Francisco | Lisa Duggins-Rogers | 21567
San Francisco | Inexco, Inc | 07699
San Francisco | Carolyn Louise Kubli | 04399
San Francisco | Anthony W. Staton | 13540
San Francisco | Lawrence George Johnson | 09413
San Francisco | Vincent Lacson Baldemor | 17403
San Francisco | Arnis Kapostins | 04000
San Francisco | Larry Clark Clopp | 05559
San Francisco | Lisa Mae Quock | 20378
San Francisco | Clifford Richard Colvin | 07734
San Francisco | Theresa A. Dutton | 10251
San Francisco | Ewa Genowfa Sederstrom | 13800
San Francisco | Mooyung Choi | 10249
St. Albans | Michael Fortuna | 17316
St. Albans | N. Roger Poulin | 04284
Tampa | Sandra K. Chestnut | 16412
Tampa | H&H International, Inc | 22098
Tampa | Joyce F. Mones | 11211
Tampa | Kerry S. Holstein | 16006
Tampa | Susan L. (Dudley) McLane | 13649
Tampa | Nancy L. Orihuela | 10739
Washington, DC | Josette Gwilliam | 05781
Washington, DC | Brian Carl Sullivan | 21599
Washington, DC | Donna L. Twyford | 16764
Washington, DC | Patricia M. Rinker | 11578
Washington, DC | Andrew T. Rosulek | 22502

Dated: July 18, 2006.
Jayson P. Ahern,
Assistant Commissioner, Office of Field Operations.

[FR Doc. E6-11781 Filed 7-24-06; 8:45 am]

BILLING CODE 9111-14-P